DEPARTMENT OF HOMELAND SECURITY

Federal Emergency Management Agency

[Docket ID FEMA-2020-0002]

Changes in Flood Hazard Determinations

AGENCY: Federal Emergency Management Agency, Homeland Security (DHS).

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama:
Houston (FEMA Docket No.: B-2040). | City of Dothan, (19-04-4944P). | The Honorable Mark Saliba, Mayor, City of Dothan, P.O. Box 2128, Dothan, AL 36303. | Engineering Services Department, P.O. Box 2128, Dothan, AL 36303. | Jul. 15, 2020 | 010104
Mobile, (FEMA Docket No.: B-2040). | Unincorporated areas of Mobile County, (19-04-4767P). | The Honorable Connie Hudson, President, Mobile County Commission, 205 Government Street, Mobile, AL 36644. | Mobile County Department of Public Works, 205 Government Street, Mobile, AL 36644. | Jun. 15, 2020 | 015008
Montgomery (FEMA Docket No.: B-2040). | Town of Pike Road, (19-04-1913P). | The Honorable Gordon Stone, Mayor, Town of Pike Road, 9575 Vaughn Road, Pike Road, AL 36064. | City Hall, 9575 Vaughn Road, Pike Road, AL 36064. | Jul. 6, 2020 | 010433
Montgomery (FEMA Docket No.: B-2040). | Unincorporated areas of Montgomery County, (19-04-1913P). | The Honorable Elton Dean, Chairman, Montgomery County Board of Commissioners, P.O. Box 1667, Montgomery, AL 36104 | Montgomery County Engineering Department, 25 Washington Avenue, Montgomery, AL 36104. | Jul. 6, 2020 | 010278
Talladega (FEMA Docket No.: B-2042). | Unincorporated areas of Talladega County, (19-04-4279P). | The Honorable Kelvin Cunningham, Chairman, Talladega County Commission, P.O. Box 6170, Talladega, AL 35161. | Talladega County Highway Department, Engineering Office, 500 Institute Lane, Talladega, AL 3516. | Jul. 16, 2020 | 010297
Colorado: Broomfield, (FEMA Docket No.: B-2034). | City and County of Broomfield, (19-08-1004P). | The Honorable Patrick Quinn, Mayor, City and County of Broomfield, 1 DesCombes Drive, Broomfield, CO 80020. | Engineering Department, 1 DesCombes Drive, Broomfield, CO 80020. | Jul. 6, 2020 | 085073
Florida:
Collier, (FEMA Docket No.: B-2034). | Unincorporated areas of Collier County, (19-04-6241P). | Mr. Burt L. Saunders, Chairman, Collier County Board of Commissioners, 3299 Tamiami Trail East, Suite 303, Naples, FL 34112. | Collier County Growth Management Department, 2800 North Horseshoe Drive, Naples, FL 34104. | Jul. 14, 2020 | 120067
Lee, (FEMA Docket No.: B-2023). | City of Sanibel, (19-04-6595P). | The Honorable Kevin Ruane, Mayor, City of Sanibel, 800 Dunlop Road, Sanibel, FL 33957. | Community Services Department, 800 Dunlop Road, Sanibel, FL 33957. | Jul. 15, 2020 | 120402
Palm Beach, (FEMA Docket No.: B-2023). | City of Westlake, (19-04-3409P). | Mr. Kenneth G. Cassel, City of Westlake Manager, 4001 Seminole Pratt Whitney Road, Westlake, FL 33470. | City Hall, 4001 Seminole Pratt Whitney Road, Westlake, FL 33470. | Jul. 15, 2020 | 120018
Massachusetts:
Plymouth, (FEMA Docket No.: B-2023). | Town of Duxbury, (20-01-0284P). | The Honorable David J. Madigan, Chairman, Town of Duxbury Board of Selectmen, 878 Tremont Street, Duxbury, MA 02332. | Planning Department, 878 Tremont Street, Duxbury, MA 02332. | Jul. 6, 2020 | 250263
Plymouth, (FEMA Docket No.: B-2023). | Town of Marshfield, (20-01-0284P). | The Honorable Joseph E. Kelleher, Chairman, Town of Marshfield Board of Selectmen, 870 Moraine Street, Marshfield, MA 02050. | Building Department, 870 Moraine Street, Marshfield, MA 02050. | Jul. 6, 2020 | 250273
New Mexico: Lea, (FEMA Docket No.: B-2034). | City of Hobbs, (19-06-2692P) | The Honorable Sam D. Cobb, Mayor, City of Hobbs, 200 East Broadway Street, Hobbs, NM 88240. | Engineering Department, 200 East Broadway Street, Hobbs, NM 88240. | Jul. 16, 2020 | 350029
Oklahoma: Tulsa, (FEMA Docket No.: B-2023). | City of Tulsa, (18-06-3174P). | The Honorable G.T. Bynum, Mayor, City of Tulsa, 175 East 2nd Street, Tulsa, OK 74103. | Development Services Department, 175 East 2nd Street, Suite 450, Tulsa, OK 74103. | Jul. 9, 2020 | 405381
Pennsylvania: Montgomery, (FEMA Docket No.: B-2023). | Township of Whitpain, (19-03-1425P). | The Honorable Frederick R. Conner, Jr., Chairman, Township of Whitpain Board of Supervisors, 960 Wentz Road, Blue Bell, PA 19422. | Township Hall, 960 Wentz Road, Blue Bell, PA 19422. | Jul. 6, 2020 | 420713
Rhode Island:
Washington, (FEMA Docket No.: B-2023). | Town of Hopkinton, (20-01-0268P). | The Honorable Frank Landolfi, President, Town of Hopkinton Council, 1 Town House Road, Hopkinton, RI 02833. | Town Hall, 1 Town House Road, Hopkinton, RI 02833. | Jul. 6, 2020 | 440028
Washington, (FEMA Docket No.: B-2023). | Town of Richmond, (20-01-0268P). | The Honorable Rich Nassaney, President, Town of Richmond Council, 5 Richmond Townhouse Road, Wyoming, RI 02898. | Town Hall, 5 Richmond Townhouse Road, Wyoming, RI 02898. | Jul. 6, 2020 | 440031
Texas:
Collin, (FEMA Docket, No.: B-2023). | City of Plano, (20-06-0804P). | The Honorable Harry LaRosiliere, Mayor, City of Plano, 1520 K Avenue, Suite 300, Plano, TX 75074. | Department of Engineering, 1520 K Avenue, Suite 250, Plano, TX 75074. | Jul. 17, 2020 | 480140
Denton, (FEMA Docket, No.: B-2023). | City of Denton, (19-06-2271P). | The Honorable Chris Watts, Mayor, City of Denton, 215 East McKinney Street, Denton, TX 76201. | Engineering Department, 901-A Texas Street, Denton, TX 76209. | Jul. 17, 2020 | 480194
Kaufman, (FEMA Docket, No.: B-2023). | City of Crandall, (19-06-3605P). | The Honorable Danny Kirbie, Mayor, City of Crandall, P.O. Box 277, Crandall, TX 75114. | City Hall, 110 South Main Street, Crandall, TX 75114. | Jul. 10, 2020 | 480409
Kaufman, (FEMA Docket, No.: B-2023). | Unincorporated areas of Kaufman County, (19-06-3605P). | The Honorable Hal Richards, Kaufman County Judge, 100 West Mulberry Street, Kaufman, TX 75142. | Kaufman County Development Services Department, 106 West Grove Street, Kaufman, TX 75142. | Jul. 10, 2020 | 480411
Kaufman, (FEMA Docket, No.: B-2023). | Unincorporated areas of Kaufman County, (19-06-0329P). | The Honorable Hal Richards, Kaufman County Judge, 100 West Mulberry Street, Kaufman, TX 75142. | Kaufman County Development Services Department, 106 West Grove Street, Kaufman, TX 75142. | Jul. 6, 2020 | 480411
Kendall, (FEMA Docket, No.: B-2034). | Unincorporated areas of Kendall County, (19-06-2757P). | The Honorable Darrel L. Lux, Kendall County Judge, 201 East San Antonio Avenue, Suite 122, Boerne, TX 78006. | Kendall County Engineering Department, 201 East San Antonio Avenue, Suite 122, Boerne, TX 78001. | Jul. 13, 2020 | 480417
Kerr, (FEMA Docket, No.: B-2034). | Unincorporated areas of Kerr County, (19-06-2757P). | The Honorable Rob Kelly, Kerr County Judge, 700 East Main Street, Kerrville, TX 78028. | Kerr County Engineering Department, 3766 State Highway 27, Kerrville, TX 78028. | Jul. 13, 2020 | 480419
McLennan, (FEMA Docket, No.: B-2034). | City of Lacy Lakeview, (20-06-0788P). | The Honorable Sharon Clark, Mayor, City of Lacy Lakeview, 501 East Craven Avenue, Lacy Lakeview, TX 76705. | City Hall, 501 East Craven Avenue, Lacy Lakeview, TX 76705. | Jul. 20, 2020 | 480927
McLennan, (FEMA Docket, No.: B-2034). | Unincorporated areas of McLennan County, (20-06-0788P). | The Honorable Scott M. Felton, McLennan County Judge, 501 Washington Avenue, Suite 214, Waco, TX 76701. | McLennan County Engineering and Mapping Department, 215 North 5th Street, Suite 130, Waco, TX 76701. | Jul. 20, 2020 | 480456
Tarrant, (FEMA Docket, No.: B-2034). | City of Grapevine, (19-06-2895P). | The Honorable William D. Tate, Mayor, City of Grapevine, P.O. Box 95104, Grapevine, TX 76099. | City Hall, 200 South Main Street, Grapevine, TX 76099. | Jul. 20, 2020 | 480598
Tarrant, (FEMA Docket, No.: B-2023). | City of Hurst, (18-06-4025P). | The Honorable Henry Wilson, Mayor, City of Hurst, 1505 Precinct Line Road, Hurst, TX 76054. | Public Works Department, 1505 Precinct Line Road, Hurst, TX 76054. | Jul. 6, 2020 | 480601
Tarrant, (FEMA Docket, No.: B-2023). | City of Richland Hills, (18-06-4025P). | The Honorable Edward Lopez, Mayor, City of Richland Hills, 3200 Diana Drive, Richland Hills, TX 76118. | City Hall, 3200 Diana Drive, Richland Hills, TX 76118. | Jul. 6, 2020 | 480608
Tarrant, (FEMA Docket, No.: B-2034). | Town of Flower Mound, (19-06-2895P). | The Honorable Steve Dixon, Mayor, Town of Flower Mound, 2121 Cross Timbers Road, Flower Mound, TX 75028. | Town Hall, 2121 Cross Timbers Road, Flower Mound, TX 75028. | Jul. 20, 2020 | 480777
Travis, (FEMA Docket, No.: B-2023). | Unincorporated areas of Travis County, (19-06-2941P). | The Honorable Sarah Eckhardt, Travis County Judge, P.O. Box 1748, Austin, TX 78767. | Travis County Transportation and Natural Resources Department, 700 Lavaca Street, 5th Floor, Austin, TX 78701. | Jul. 13, 2020 | 481026
Utah: Washington, (FEMA Docket, No.: B-2023) | City of St. George, (20-08-0005P). | The Honorable Jonathon T. Pike, Mayor, City of St. George, 175 East 200 North, St. George, UT 84770. | City Hall, 175 East 200 North, St. George, UT 84770. | Jul. 1, 2020 | 490177
Wyoming:
Laramie, (FEMA Docket, No.: B-2034). | City of Cheyenne, (19-08-0688P). | The Honorable Marian J. Orr, Mayor, City of Cheyenne, 2101 O'Neil Avenue, Cheyenne, WY 82001. | Planning and Development Department, 2101 O'Neil Avenue, Cheyenne, WY 82001. | Jul. 8 2020 | 560030
Laramie, (FEMA Docket, No.: B-2034). | Unincorporated areas of Laramie County, (19-08-0688P). | The Honorable Gunnar Malm, Chairman, Laramie County Board of Commissioners, 310 West 19th Street, Suite 300, Cheyenne, WY 82001. | Laramie County Public Works Department, 13797 Prairie Center Circle, Cheyenne, WY 82001. | Jul. 8 2020 | 560029

[FR Doc. 2020-18422 Filed 8-20-20; 8:45 am]

BILLING CODE 9110-12-P